FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 26, 2021.

A. Federal Reserve Bank of Chicago (Colette A. Fried, Assistant Vice President) 230 South LaSalle Street, Chicago, Illinois 60690-1414:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of First Midwest Bancorp, Inc., and thereby indirectly acquire additional voting shares of First Midwest Bank, both of Chicago, Illinois.

2. The Cheryl Foote Groenendyke Trust No. 1, Cheryl Foote Groenendyke, as trustee, Inky Investments, L.C., Cheryl Foote Groenendyke, as manager, the Richard A. Groenendyke, Jr. Revocable Trust, and Richard A. Groenendyke Jr., as trustee, all of Tulsa, Oklahoma; the Shingleton Family Limited Partnership, Bradford Shingleton and Barbara Foote Shingleton, as general partners, and Rebecca Shingleton, all of Boston, Massachusetts; the Donkersloot-Foote Family Trust, Darci Foote and John Donkersloot, as co-trustees, all of Brighton, Michigan; the Foote Shingleton 2004 Irrevocable Trust, Kenneth J. Foote, as trustee, the Kenneth J. Foote Trust No. 1, Kenneth J. Foote, as trustee, Alexander Kirby Foote, Lark Allison Foote, Juliet Ann Foote, and Blythe Esther Foote, all of Okemos, Michigan; Foote Capital, LLC, Susan Foote and Stephen L. Feinberg, as co-managers, all of El Paso, Texas, and Kenneth J. Foote, also a co-manager, Okemos, Michigan; the Kenneth J. Foote Trust No. 2, Amy A. Payne, as co-trustee, both of Okemos, Michigan, and Iris Foote, Howell, Michigan, and Charlotte Fitzpatrick, Souderton, Pennsylvania, both co-trustees of the aforementioned trust; the BFS 2020 Delaware Trust, First Republic Bank of Delaware, as trustee, both of Wilmington, Delaware, and Barbara Foote Shingleton, Investment Direction Adviser, Boston, Massachusetts; the Rhonda Foote Judy Michigan Asset Trust, Rhonda Foote Judy, as trustee, both of Houston, Texas; the Mamie M. Foote Trust No. 1, Mamie M. Foote, as trustee, both of Golden Oaks, Florida; Charlotte Lynne Fitzpatrick, Souderton, Pennsylvania; Benjamin Aaron Foote, Chicago, Illinois; Jennifer Ewing, Chestnut Hill, Massachusetts; Iris Foote, Howell, Michigan, and Elizabeth Glomsrud, Rancho Santa Fe, California; all to become members of the Foote Family Control Group, a group acting in concert, to retain the voting shares of First National Bancshares, Inc., and thereby indirectly retain voting shares of First National Bank of America, both East Lansing, Michigan.

Board of Governors of the Federal Reserve System, May 6, 2021.
Michele Taylor Fennell,
Deputy Associate Secretary of the Board.

[FR Doc. 2021-09944 Filed 5-10-21; 8:45 am]

BILLING CODE P